DEPARTMENT OF COMMERCE

National Oceanic and Atmospheric Administration

50 CFR Part 679

[Docket No. 151029999-5999-01]

RIN 0648-BF50

Control Date for Trawl Groundfish Fisheries in the Aleutian Islands

AGENCY: National Marine Fisheries Service (NMFS), National Oceanic and Atmospheric Administration (NOAA), Commerce.

ACTION: Advance notice of proposed rulemaking (ANPR); control date.

SUMMARY: At the request of the North Pacific Fishery Management Council (Council), this document announces a control date of December 31, 2015, that may be used as a reference date for a future management action to limit future access to the offshore sector of the trawl groundfish fisheries in the Aleutian Islands. This date corresponds to the end of the 2015 fishing season in these fisheries. In October 2015, the Council announced its intent to evaluate participation and effort in the offshore sector of the trawl groundfish fisheries in the Aleutian Islands fisheries in response to a public request to consider further limits on access to the fisheries. This document is intended to promote awareness of possible rulemaking and provide notice to the public that any participation in the offshore sector of the trawl groundfish fisheries in the Aleutian Islands after the control date may not ensure continued access to those fisheries under a future management action. This document is also intended to discourage speculative entry into the fisheries while the Council considers whether and how access to the fisheries may be further limited under a future management action.

DATES: December 31, 2015, shall be known as the control date for the offshore sector of the trawl groundfish fisheries in the Aleutian Islands and may be used as a reference date for participation in a future management action that is consistent with the Council's objectives and applicable Federal laws.

ADDRESSES: Please consult the Council's Web site at http://www.npfmc.org/ for information on public participation in the Council's decision-making process.

FOR FURTHER INFORMATION CONTACT: Rachel Baker: 907-586-7228 or rachel.baker@noaa.gov.

SUPPLEMENTARY INFORMATION: NMFS manages the groundfish fisheries in the U.S. exclusive economic zone (EEZ) of the Bering Sea and Aleutian Islands (BSAI) under the Fishery Management Plan for Groundfish of the Bering Sea and Aleutian Islands Management Area (FMP). The Council prepared, and NMFS approved, the FMP under the authority of the Magnuson-Stevens Fishery Conservation and Management Act (Magnuson-Stevens Act), 16 U.S.C. 1801 et seq. Regulations governing U.S. fisheries and implementing the FMP appear at 50 CFR parts 600 and 679.

This advance notice of proposed rulemaking would apply to owners and operators of vessels that participate in Federal groundfish fisheries with trawl gear in the Aleutian Islands subarea (AI). The AI is defined at § 679.2 and shown in Figure 1 to 50 CFR part 679. Vessels that participate in the AI trawl groundfish fisheries harvest Pacific cod, Atka mackerel, and Pacific Ocean perch.

Vessels that participate in the offshore sector of the AI trawl groundfish fisheries include catcher vessels, catcher/processors, and motherships. Catcher vessels participate in the offshore sector by delivering groundfish to catcher/processors or motherships for processing. Catcher/processors participate in the offshore sector by catching and processing groundfish or by receiving and processing deliveries of groundfish from catcher vessels. Motherships participate in the offshore sector by receiving and processing deliveries of groundfish from catcher vessels. This advance notice of proposed rulemaking would not apply to owners and operators of trawl catcher vessels that participate in the inshore sector of the BSAI trawl groundfish fisheries (i.e., vessels that deliver groundfish to shoreside processors rather than to catcher/processors or motherships).

The Council and NMFS annually establish biological thresholds and annual total allowable catch limits for groundfish species to sustainably manage the groundfish fisheries in the AI. To achieve these objectives, NMFS requires vessel operators participating in AI groundfish fisheries to comply with various regulatory restrictions, such as fishery closures, to maintain catch within specified total allowable catch limits.

The Council and NMFS have long sought to control fishing effort in the North Pacific Ocean to ensure that fisheries are conservatively managed and do not exceed established biological thresholds. One of the measures used by the Council and NMFS is the license limitation program (LLP), which limits access to the groundfish, crab, and scallop fisheries in the BSAI and the Gulf of Alaska. The LLP is intended to limit entry into federally managed fisheries. For groundfish, the LLP requires that persons hold and assign a license to each vessel that is used to fish in federally managed fisheries, with some limited exemptions. The preamble to the final rule implementing the groundfish LLP provides a more detailed explanation of the rationale for specific provisions in the LLP (October 1, 1998; 63 FR 52642).

In October 2015, the Council received public testimony from participants in the offshore sector of the AI trawl groundfish fisheries. These participants indicated that new vessels have entered the fisheries in recent years. The testimony indicated that this new entry may negatively impact the ability of historical participants to maintain groundfish harvests in the AI. After considering this public testimony, the Council stated its intent to evaluate methods for further limiting access to the offshore sector of the AI trawl groundfish fisheries in a future management action. To dampen the effect of speculative entry into the offshore sector of the AI trawl groundfish fisheries in anticipation of potential future action to limit access to the fisheries, the Council announced a control date of December 31, 2015. The control date may be used as a reference date for a future management action to further limit access to the offshore sector of the AI trawl groundfish fisheries. The Council clarified that the control date would not obligate the Council to use this control date in any future management action. Further, the control date would not obligate the Council to take any action or prevent the Council from selecting another control date. Accordingly, this document is intended to promote awareness that the Council may develop a future management action to achieve its objectives for the offshore sector of the AI trawl groundfish fisheries; to provide notice to the public that any current or future access to the offshore sector of the AI trawl groundfish fisheries may be affected or restricted; and to discourage speculative participation and behavior in the fisheries while the Council considers whether to initiate a management action to further limit access to the fisheries. Any measures the Council considers may require changes to the FMP. Such measures may be adopted in a future amendment to the FMP, which would include opportunity for further public participation and comment.

NMFS encourages public participation in the Council's consideration of a management action to further limit access to the offshore sector of the AI trawl groundfish fisheries. Please consult the Council's Web site at http://www.npfmc.org/ for information on public participation in the Council's decision-making process.

This notification and control date do not impose any legal obligations, requirements, or expectations.

Authority: 16 U.S.C. 1801 et seq.

Dated: November 24, 2015.
Eileen Sobeck,
Assistant Administrator for Fisheries, National Marine Fisheries Service.

[FR Doc. 2015-30302 Filed 11-27-15; 8:45 am]

BILLING CODE 3510-22-P